DEPARTMENT OF TRANSPORTATION

Federal Highway Administration

Notice of Final Federal Agency Actions on Proposed Highway in California

AGENCY: Federal Highway Administration (FHWA), Department of Transportation (DOT).

ACTION: Notice of limitation on claims for judicial review of actions by the California Department of Transportation (Caltrans).

SUMMARY: The FHWA, on behalf of Caltrans, is issuing this notice to announce actions taken by Caltrans, that are final. The actions relate to a proposed highway project, the State Route 46 Corridor Improvement Project—Cholame Section approximately 2 miles northwest of the town of Shandon in the County San Luis Obispo, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before November 19, 2020. If the Federal law that authorizes judicial review of a claim provides a time period of less than 150 days for filing such claim, then that shorter time period still applies.

FOR FURTHER INFORMATION CONTACT: For Caltrans, Jason Wilkinson, Branch Chief, Central Region Environmental, Caltrans District 5, 50 Higuera Street, San Luis Obispo, California 93401. Office hours: Monday-Friday, 9:00 a.m.-5:00 p.m. PDT. (805) 542-4663 or email jason.wilkinson@dot.ca.gov. For FHWA, contact David Tedrick at 916.498.5024 or email david.tedrick@dot.gov.

SUPPLEMENTARY INFORMATION: Effective July 1, 2007, the FHWA assigned, and Caltrans assumed, environmental responsibilities for this project pursuant to 23 U.S.C. 327. Notice is hereby given that the Caltrans, have taken final agency actions subject to 23 U.S.C. 139(l)(1) by issuing licenses, permits, and approvals for the following highway project in the State of California: The State Route 46 Corridor Improvement Project—Cholame Section on State Route 46 will begin at PM 49.7, approximately 0.2 miles east of the Shandon Roadside Rest Area and will continue to post mile 54.7, approximately 0.5 miles west of the State Route 41/46 intersection. Caltrans proposes to continue the widening of the State Route 46 Corridor from a two-lane highway to a four-lane divided expressway (FHWA Project No. 0514000027). The actions by the Federal agencies, and the laws under which such actions were taken, are described in the Final Updated Environmental Assessment (FEA) with Finding of No Significant Impact (FONSI) for the project, approved on February 14, 2020 and in other documents in Caltrans' project records. The FEA, FONSI and other project records are available by contacting Caltrans at the addresses provided above.

This notice applies to all Federal agency decisions as of the issuance date of this notice and all laws under which such actions were taken, including but not limited to:

1. Surface Transportation Project Delivery Pilot Program (Pilot Program) [23 U.S.C. 327]

2. National Environmental Policy Act (NEPA) [42 U.S.C. 4321-4335]

3. Federal Endangered Species Act [16 U.S.C. 1531-1543]

4. Interagency Cooperation, Endangered Species Act of 1973 [50 CFR 402]

5. Farmland Protection Policy Act (FPPA) [7 U.S.C. 4201-4209]

6. The National Historic Preservation Act (NHPA) of 1966 [16 U.S.C. 470(f) et seq]

7. Energy Policy and Conservation Act of 1975 [42 U.S.C. 6201]

8. Determining Conformity of Federal Actions to State or Federal Implementation Plans [40 CFR 93]

9. Guidelines for Specification of Disposal Sites for Dredged or Fill Material [40 CFR 230]

10. Procedures for abatement of highway traffic noise and construction noise [23 CFR 772]

11. Farmland Protection Policy Act [7 CFR 658]

12. Protection of Historic Properties [36 CFR 800]

13. Cumulative Impact [40 CFR Section 1508.7]

14. Clean Air Act [42 U.S.C. 7401]

15. Protection of Wetlands Executive Order 11990

16. Clean Water Act [33 U.S.C. 1344]

17. Invasive Species Executive Order 13112

18. Federal Migratory Bird Treaty Act [16 U.S.C. 703-711]

19. The Bald and Golden Eagle Protection Act [16 U.S.C. 668]

(Catalog of Federal Domestic Assistance Program Number 20.205, Highway Planning and Construction. The regulations implementing Executive Order 12372 regarding intergovernmental consultation on Federal programs and activities apply to this program.)

Authority: 23 U.S.C. 139(l)(1).

Issued on: June 16, 2020.
Rodney Whitfield,
Director, Financial Services, Federal Highway Administration, California Division.

[FR Doc. 2020-13396 Filed 6-19-20; 8:45 am]

BILLING CODE 4910-RY-P